DEPARTMENT OF HEALTH AND HUMAN SERVICES

National Institutes of Health

Proposed Collection; 60-Day Comment Request; Special Volunteer and Guest Researcher Assignment (Office of Intramural Research, Office of the Director)

AGENCY: National Institutes of Health, HHS.

ACTION: Notice.

SUMMARY: In compliance with the requirement of the Paperwork Reduction Act of 1995, for opportunity for public comment on proposed data collection projects, the Office of Intramural Research (OIR), Office of the Director (OD), National Institutes of Health (NIH), will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Arlyn Garcia-Perez, Assistant Director, Office of Intramural Research, Office of the Director, National Institutes of Health, 1 Center Drive MSC 0140, Building 1, Room 160, MSC-0140, Bethesda, Maryland, 20892 or call non-toll-free number (301) 496-1921 or (301) 496-1381 or Email your request, including your address to: GarciaA@od.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Special Volunteer and Guest Researcher Assignment form—Reinstatement without Change of OMB #0925-0177, Office of Intramural Research (OIR), Office of the Director (OD), National Institutes of Health (NIH).

Need and Use of Information Collection: Form Number: NIH-590 is a single form completed by an NIH official for each Guest Researcher or Special Volunteer prior to his/her arrival at NIH. The information on the form is necessary for the approving official to reach a decision on whether to allow a Guest Researcher to use NIH facilities, or whether to accept volunteer services offered by a Special Volunteer. If the original assignment is extended, another form notating the extension is completed to update the file. In addition, each Special Volunteer and Guest Researcher reads and signs an NIH Agreement.

OMB approval is requested for 3 years. There are no costs to respondents other than their time. The total estimated annualized burden hours are 527.

Estimated Annualized Burden Hours
Form name | Type of respondents | Number of respondents | Number of responses per respondent | Average burden per response (in hours) | Total annual hour burden hours
Special Volunteer and Guest Researcher Assignment | Special Volunteers and Guest researchers | 2,870 | 1 | 6/60 | 287
NIH Special Volunteer Agreement | Special Volunteers | 2,600 | 1 | 5/60 | 217
NIH Guest Researcher Agreement | Guest Researchers | 270 | 1 | 5/60 | 23
Totals |  | 2,870 |  |  | 527

Dated: September 7, 2017.
Lawrence A. Tabak,
Principal Deputy Director, National Institutes of Health.

[FR Doc. 2017-19595 Filed 9-14-17; 8:45 am]

BILLING CODE 4140-01-P